NUCLEAR REGULATORY COMMISSION

Docket Nos. 50-369 and 50-370]

Duke Energy Corporation; Notice of Withdrawal of Application for Amendment to Facility Operating License

The U.S. Nuclear Regulatory Commission (the Commission) has granted the request of Duke Energy Corporation (the licensee) to withdraw its April 5, 1999, application for proposed amendment to Facility Operating License Nos. 9 and 17 for the McGuire Nuclear Station, Units 1 and 2, located in Mecklenburg County, North Carolina.

The proposed amendment would have revised TS Section 3.7.15 and associated Bases, and Section 4.0, to allow the use of credit for soluble boron in spent fuel pool criticality analyses. The request was based on the NRC-approved Westinghouse Owners Group Topical Report WCAP-14416-NP-A, that provides generic methodology for crediting soluble boron.

The Commission had previously issued a Notice of Consideration of Issuance of Amendment published in the Federal Register on May 19, 1999 (64 FR 27318). However, by letter dated March 23, 2000, the licensee withdrew the proposed change.

For further details with respect to this action, see the application for amendment dated April 5, 1999, and the licensee's letter dated March 23, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 29th day of March 2000.
For the Nuclear Regulatory Commission.
Frank Rinaldi,
Project Manager, Section 1, Project Directorate II, Division of Licensing Project Management, Office of Nuclear Reactor Regulation.

[FR Doc. 00-8214 Filed 4-3-00; 8:45 am]

BILLING CODE 7590-01-P